Title 3—

The President

Proclamation 7492 of November 1, 2001

National Prostate Cancer Awareness Month, 2001

By the President of the United States of America

A Proclamation

By observing National Prostate Cancer Awareness Month, we recognize the often devastating effects prostate cancer has on the lives of the more than 1 million American men currently suffering from it; and we commit ourselves to finding a cure for this disease. Prostate cancer is the most commonly diagnosed form of cancer in America, excepting skin cancer. And it is the second leading cause of cancer-related deaths among men in the United States. This year, almost 200,000 men will be diagnosed with prostate cancer, and over 31,000 will die from this disease.

Although the survival rate for those diagnosed with prostate cancer continues to rise, this disease nevertheless remains a serious threat to the health and well-being of all American men. Research shows that one out of every six men will be diagnosed with prostate cancer sometime during their lifetime.

By increasing awareness about the causes and signs of prostate cancer and by expanding research into preventative, remedial, and curative therapies, we can save more lives, improve the lives of those suffering from this cancer, and reduce its incidence in America. All men of middle age, and particularly those above the age of 50, should learn the risk factors, symptoms, and diagnostic tools that can help with the early recognition of prostate cancer, when treatment is most successful. It is important to consult a physician about available screening for prostate cancer, including digital examinations and prostate specific antigen blood tests. These techniques aid doctors in the early diagnosis of prostate cancer, and they are essential to continuing the reduction of prostate cancer death rates.

As with most other forms of cancer, modern medical research has produced promising new treatment options for prostate cancer that have greatly increased the likelihood of survival after diagnosis. However, much still remains to be learned about the causes and cures of prostate cancer, and I applaud the work of the Centers for Disease Control and Prevention in this area. My Administration also supports increasing Federal funding for programs that promote awareness, improve prevention, and expand research by the National Institutes of Health, the Department of Defense Congressionally Directed Medical Research Program, and the Department of Veterans Affairs.

These research programs obtain important epidemiological data, develop prostate cancer awareness among the public and throughout the health care community, and serve as proving grounds for new prostate cancer treatments. Charitable organizations and the private sector also play important roles in advancing public awareness about the need for prostate cancer screening and research, and in serving as a therapeutic resource for those suffering from prostate cancer.

On this occasion, I commend the scientists, physicians, and other health professionals who are committed to achieving success in our struggle against prostate cancer. I call on all those potentially vulnerable to this disease to support this effort by taking preventative measures such as observing a healthy lifestyle, talking to your doctor about regular screenings, and building awareness of prostate cancer. By working together, we will find new therapies to aid those living with prostate cancer, increase awareness about its causes and symptoms, and, I hope, eventually find a cure for this deadly disease.

NOW, THEREFORE, I, GEORGE W. BUSH, President of the United States of America, by virtue of the authority vested in me by the Constitution and laws of the United States, do hereby proclaim November 2001 as National Prostate Cancer Awareness Month. I call upon government officials, businesses, communities, health care professionals, educators, volunteers, and all the people of the United States to publicly reaffirm our Nation's strong and continuing commitment to control and cure prostate cancer.

IN WITNESS WHEREOF, I have hereunto set my hand this first day of November, in the year of our Lord two thousand one, and of the Independence of the United States of America the two hundred and twenty-sixth.

B

[FR Doc. 01-27989

Filed 11-5-01; 8:45 am]

Billing code 3195-01-P